INTERNATIONAL TRADE COMMISSION

[Investigation Nos. 701-TA-514 and 731-TA-1250 (Final)]

53-Foot Domestic Dry Containers From China; Determinations

On the basis of the record ¹ developed in the subject investigations, the United States International Trade Commission (“Commission”) determines, pursuant to the Tariff Act of 1930 (“the Act”), that the establishment of an industry in the United States is not materially retarded by reason of imports of 53-foot domestic dry containers from China, provided for in subheading 8609.00.00 of the Harmonized Tariff Schedule of the United States, that have been found by the Department of Commerce (“Commerce”) to be sold in the United States at less than fair value (“LTFV”), and that have been found by Commerce to be subsidized by the Government of China.²

¹ The record is defined in sec. 207.2(f) of the Commission's Rules of Practice and Procedure (19 CFR 207.2(f)).

² Commissioner Kieff is recused from these investigations.

Background

The Commission, pursuant to sections 705(b) and 735(b) of the Tariff Act of 1930 (19 U.S.C. 1671d(b) and 19 U.S.C. 1673d(b)), instituted these investigations effective April 23, 2014, following receipt of a petition filed with the Commission and Commerce by Stoughton Trailers, LLC, Stoughton, Wisconsin. The final phase of the investigations was scheduled by the Commission following notification of preliminary determinations by Commerce that imports of 53-foot domestic dry containers from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 11, 2014 (79 FR 73626). The hearing was held in Washington, DC, on April 16, 2015, and all persons who requested the opportunity were permitted to appear in person or by counsel.

The Commission made these determinations pursuant to sections 705(b) and 735(b) of the Tariff Act of 1930 (19 U.S.C. 1671d(b) and 19 U.S.C. 1673d(b)). It completed and filed its determinations in these investigations on June 1, 2015. The views of the Commission are contained in USITC Publication 4537 (June 2015), entitled 53-Foot Domestic Dry Containers from China: Investigation Nos. 701-TA-514 and 731-TA-1250 (Final).

By order of the Commission.
Dated: June 1, 2015.
Lisa R. Barton,
Secretary to the Commission.

[FR Doc. 2015-13750 Filed 6-4-15; 8:45 am]

BILLING CODE 7020-02-P